OFFICE OF PERSONNEL MANAGEMENT

5 CFR Parts 451, 531, and 575

RIN 3206-AK88 and 3206-AK81

Changes in Pay Administration Rules for General Schedule Employees; Recruitment, Relocation, and Retention Incentives; Corrections

AGENCY: Office of Personnel Management.

ACTION: Correcting amendments.

SUMMARY: The Office of Personnel Management issued interim regulations on May 13, 2005 (70 FR 25732), to implement section 101 of the Federal Workforce Flexibility Act of 2004, which amends the rules governing recruitment, relocation, and retention incentives, and on May 31, 2005 (70 FR 31278), to implement section 301 of the Federal Workforce Flexibility Act of 2004, which amends the rules governing pay setting for General Schedule employees. This notice corrects minor errors in the interim regulations.

DATES: Effective Dates: The corrections to 5 CFR part 575 are effective on May 13, 2005. The corrections to 5 CFR part 531 are effective on May 1, 2005.

FOR FURTHER INFORMATION CONTACT: David Barash by telephone at (202) 606-2858; by fax at (202) 606-0824; or by e-mail at pay-performance-policy@opm.gov.

SUPPLEMENTARY INFORMATION: The Office of Personnel Management is making the following corrections in Title 5, Code of Federal Regulations:

• In § 451.104(g), we are correcting a citation to 5 U.S.C. 4505a(a)(2).

• In § 531.214(d)(2)(iii)(A), we are replacing the term “alternate” with “standard”.

• In § 531.214(d)(4)(iii), Step D, we are replacing the term “GS-11” with “GS-9”.

• In § 531.222(a)(2), we are moving the phrase “on a regular tour of duty” from paragraph (2)(i) to the introductory text of paragraph (2).

• In § 531.407(b)(2), we are inserting the phrase “(or would have resulted in)”.

• In § 531.602, we are replacing the word “rates” with the word “rate” in the second sentence of the definition of GS rate.

• In § 531.610(k), we are replacing the phrase “Lump-sum payments for accumulated and annual leave under 5 CFR part 550, subpart L” with “Lump-sum payments under 5 CFR part 550, subpart L, for accumulated and accrued annual leave”.

• In § 572.206(a)(4), we are replacing the word “recruitment” with “relocation.”

• In § 575.310(a), we are replacing the reference to paragraph “g” with “(f).”

List of Subjects in 5 CFR Parts 451, 531, and 575

Decorations, medals, awards; Government employees; Law enforcement officers; Wages.

Accordingly, 5 CFR parts 451, 531, and 575 are corrected by making the following correcting amendments:

PART 451—AWARDS

1. The authority citation for part 451 continues to read as follows:

Authority: 5 U.S.C. 4302, 4501-4509; E.O. 11438, 33 FR 18085, 3 CFR, 1966-1970 Comp., p. 755; E.O. 12828, 58 FR 2965, 3 CFR, 1993 Comp., p. 569.

Subpart A—Agency Awards

§ 451.104 [Amended]

2. In § 451.104, amend paragraph (g) by removing “4505a(a)(2)(A)” and adding in its place “4505a(a)(2)”.

PART 531—PAY UNDER THE GENERAL SCHEDULE

3. The authority citation for part 531 continues to read as follows:

Authority: 5 U.S.C. 5115, 5307, and 5338; sec. 4 of Pub. L. 103-89, 107 Stat. 981; and E.O. 12748, 56 FR 4521, 3 CFR, 1991 Comp., p. 316; Subpart B also issued under 5 U.S.C. 5303(g), 5305, 5333, 5334(a) and (b), and 7701(b)(2); Subpart D also issued under 5 U.S.C. 5335(g) and 7701(b)(2); Subpart E also issued under 5 U.S.C. 5336; Subpart F also issued under 5 U.S.C. 5304, 5305, and 5338; and E.O. 12883, 58 FR 63281, 3 CFR, 1993 Comp., p. 682 and E.O. 13106, 63 FR 68151, 3 CFR, 1998 Comp., p. 224.

Subpart B—Determining Rate of Basic Pay

§ 531.214 [Amended]

4. In § 531.214(d)(2)(iii)(A), remove “alternate” and add in its place “standard” and in § 531.214(d)(4)(iii), Step D, remove “GS-11” and add in its place “GS-9”.

5. In § 531.222, revise paragraphs (a)(2), introductory text, and (a)(2)(i) to read as follows:

§ 531.222 Rates of basic pay that may be used as the highest previous rate.

(a) * * *

(2) The highest previous rate must be a rate of basic pay received by an employee while serving on a regular tour of duty—

(i) Under an appointment not limited to 90 days or less; or

* * * * *

Subpart D—Within-Grade Increases

6. In § 531.407, revise paragraph (b)(2), introductory text, to read as follows:

§ 531.407 Equivalent increase determinations.

* * * * *

(b) * * *

(2) An opportunity to receive a within-level or within-range increase that results in (or would have resulted in) forward movement in the applicable range of rates of basic pay, where “forward movement in the applicable range” means any kind of increase in the employee's rate of basic pay other than an increase that is directly and exclusively linked to—

* * * * *

Subpart F—Locality-Based Comparability Payments

7. In § 531.602, revise the definition of GS rate to read as follows:

§ 531.602 Definitions.

* * * * *

GS rate means a rate of basic pay within the General Schedule, excluding any LEO special base rate and additional pay of any kind such as locality payments or special rate supplements. A rate payable to a GM employee is considered a GS rate.

* * * * *

8. In § 531.610, revise paragraph (k) to read as follows:

§ 531.610 Treatment of locality rate as basic pay.

* * * * *

(k) Lump-sum payments under 5 CFR part 550, subpart L, for accumulated and accrued annual leave;

* * * * *

PART 575—RECRUITMENT, RELOCATION, AND RETENTION INCENTIVES; SUPERVISORY DIFFERENTIALS; AND EXTENDED ASSIGNMENT INCENTIVES

9. The authority citation for part 575 continues to read as follows:

Authority: 5 U.S.C. 1104(a)(2) and 5307; subparts A, B, and C also issued under sec. 101, Pub. L. 108-411, 118 Stat. 2305 (5 U.S.C. 5753 and 5754); subpart D also issued under 5 U.S.C. 5755; subpart E also issued under sec. 207, Pub. L. 107-273, 116 Stat. 1779 (5 U.S.C. 5757).

Subpart B—Relocation Incentives

§ 575.206 [Amended]

10. In § 575.206(a)(4), remove the word “recruitment” and add in its place the word “relocation.”

Subpart C—Retention Incentives

§ 575.310 [Amended]

11. In § 575.310(a), remove “(g)” and add in its place “(f).”

Office of Personnel Management.
Linda M. Springer,
Director.

[FR Doc. 05-24214 Filed 12-16-05; 8:45 am]

BILLING CODE 6325-39-M